DEPARTMENT OF HEALTH AND HUMAN SERVICES

[Document Identifier OS-0990-New]

Agency Information Collection Request, 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Communities Putting Prevention to Work Cost Study Instrument—OMB No. 0990-NEW- Office of the Assistant Secretary for Planning and Evaluation.

Abstract: The American Recovery and Reinvestment Act of 2009 was signed into law on February 17, 2009, Public Law 11.5 (“Recovery Act”). Communities Putting Prevention to Work (CPPW) is a $650 million program funded by the Recovery Act. The purpose of the proposed data collection is to collect quarterly cost information from all community-level CPPW awardees'. This will allow HHS to receive reports on direct awardees costs associated with carrying out the selected evidence-based strategies that are required by the Funding Opportunity Announcement (FOA) and Notice of Grant Award (NGA). This requirement is in addition to the financial reporting requirements of Section 512 of the Recovery Act, set forth by the Office of Management and Budget (OMB) under the data collection instrument titled “Standard Data Elements for Reports Under Section 1512 of the American Recovery and Reinvestment Act of 2009, Public Law 111-5 (Grants, Cooperative Agreements, and Loans).”

The activity-based cost data submitted by the 35-45 grantees will provide the basis for HHS to assess the costs of the various program strategies, identify factors that impact average cost, and perform cost-effectiveness analysis of the program. Performing an assessment of the resources expended on each CPPW intervention will provide valuable information to HHS and other agencies within the Department for improving program efficiency within the various strategies of the program. There are no costs to respondents except their time to participate in the survey.

Estimated Annualized Burden Table
Forms | Type of respondent | Number of respondents | Number of responses per respondent | Average burden hours per response | Total burden hours
CPPW Cost Study Tool | Program Director | 45 | 4 | 3 | 540
CPPW Cost Study Tool | Business Manager | 45 | 4 | 3 | 540
CPPW Cost Study Tool | Data Manager | 45 | 4 | 5 | 900
Total |  |  |  |  | 1980

Seleda Perryman,
Office of the Secretary, Paperwork Reduction Act Reports Clearance Officer.

[FR Doc. 2010-6025 Filed 3-18-10; 8:45 am]

BILLING CODE 4150-05-P